NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on June 6-8, 2001, in Conference Room T-2B3, 11545 Rockville Pike, Rockville, Maryland. The date of this meeting was previously published in the Federal Register on Friday, November 17, 2000 (65 FR 69578).

Wednesday, June 6, 2001

8:30 a.m.-8:35 a.m.: Opening Remarks by the ACRS Chairman (Open)—The ACRS Chairman will make opening remarks regarding the conduct of the meeting.

8:35 a.m.-11:20 a.m.: Proposed Risk-Informed Revisions to 10 CFR 50.46 and Proposed Revisions to the Framework for Risk-Informing the Technical Requirements of 10 CFR Part 50 (Open)—The Committee will hear presentations by and hold discussions with representatives of the NRC staff regarding proposed risk-informed revisions to 10 CFR 50.46, “Acceptance Criteria for Emergency Core Cooling Systems for Light-Water Nuclear Power Reactors,” and proposed revisions to the framework for risk-informing the technical requirements of 10 CFR Part 50.

11:20 a.m.-12:15 p.m.: Potential Margin Reductions Associated with Power Uprates (Open)—The Committee will hear a presentation by and hold discussions with ACRS Senior Fellow, Dr. A. W. Cronenberg, regarding his views on the adequacy of the staff's review process for power uprates and potential safety margin reductions associated with power uprates.

1:15 p.m.-3:15 p.m.: Draft Final Safety Evaluation Report for the South Texas Project Nuclear Operating Company (STPNOC) Request to Exclude Certain Components from the Scope of Special Treatment Requirements Required by Regulations (Open)—The Committee will hear presentations by and hold discussions with representatives of the NRC staff regarding the draft final Safety Evaluation Report on the STPNOC exemption request.

3:35 p.m.-4:30 p.m.: Discussion of General Design Criteria (Open)—The Committee will hear a presentation by and hold discussions with Mr. J. N. Sorensen, ACRS Senior Fellow, regarding his views on risk-informing General Design Criteria included in Appendix A to 10 CFR Part 50.

4:50 p.m.-7:00 p.m.: Discussion of Proposed ACRS Reports (Open)—The Committee will discuss proposed ACRS reports on matters considered during this meeting, as well as proposed ACRS reports on: Risk-Based Performance Indicators; Response to the EDO's letter of April 12, 2001 on Topics Raised by the ACRS Pertaining to Issues Associated with Industry Use of Thermal-Hydraulic Codes; and Response to NRC Chairman Meserve's May 7, 2001 Memorandum Regarding Differing Professional Opinion on Steam Generator Tube Issues.

Thursday, June 7, 2001

8:30 a.m.-8:35 a.m.: Opening Remarks by the ACRS Chairman (Open)—The ACRS Chairman will make opening remarks regarding the conduct of the meeting.

8:35 a.m.-9:45 a.m.: Need to Revise 10 CFR Part 54, “Requirements for Renewal of Operating Licenses for Nuclear Power Plants” (Open)—The Committee will discuss the need for revising 10 CFR Part 54.

10:00 a.m.-11:00 a.m.: Regulatory Challenges for Advanced Power Reactors (Open)—The Committee will discuss follow-up matters resulting from the June 4-5, 2001 Workshop of the ACRS Subcommittee on Advanced Reactors and develop a course of action for dealing with these matters in the future.

11:00 a.m.-11:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

11:45 a.m.-12:00 Noon: Reconciliation of ACRS Comments and Recommendations (Open)—The Committee will discuss the responses from the NRC Executive Director for Operations (EDO) to comments and recommendations included in recent ACRS reports and letters. The EDO responses are expected to be made available to the Committee prior to the meeting.

1:00 p.m.-1:30 p.m.: Arrangements for the Visit to the Waterford Plant and Region IV Office (Open)—The Committee will discuss arrangements and logistics for the June 27-28, 2001, visit to the Waterford Plant and NRC Region IV Office.

1:30 p.m.-7:00 p.m.: Discussion of Proposed ACRS Reports (Open)—The Committee will discuss proposed ACRS reports.

Friday, June 8, 2001

8:30 a.m.-8:35 a.m.: Opening Remarks by the ACRS Chairman (Open).

8:35 a.m.-9:00 a.m.: Proposed ACRS Reports (Open)—The Committee will continue its discussion of proposed ACRS reports.

9:00 a.m.-10:00 a.m.: Meeting with Commissioner Dicus (Open)—The Committee will meet with NRC Commissioner Dicus to discuss items of mutual interest.

10:15 a.m.-2:30 p.m.: Proposed ACRS Reports (Open)—The Committee will continue its discussion of proposed ACRS reports.

2:30 p.m.-3:00 p.m.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

Further information regarding topics to be discussed, whether the meeting has been canceled or rescheduled, the Chairman's ruling on requests for the opportunity to present oral statements, and the time allotted therefor can be obtained by contacting Mr. James E. Lyons (telephone 301-415-7371), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: May 17, 2001.
Andrew L. Bates,
Advisory Committee Management Officer.

[FR Doc. 01-13016 Filed 5-22-01; 8:45 am]

BILLING CODE 7590-01-P